DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Regional Economic Data Collection Program for Gulf Coast Alaska.

Form Number(s): None.

OMB Approval Number: 0648-xxxx.

Type of Request: Regular submission.

Burden Hours: 171.

Number of Respondents: 500.

Average Hours Per Response: Vessel surveys, 20 minutes; small business surveys, 15 minutes; fish processor surveys, 40 minutes.

Needs and Uses: The data to be collected via this project will be used for developing regional economic models for Gulf Coast Alaska fisheries. Much of the data required for regional economic analysis associated with Gulf Coast Alaska fisheries are either unavailable or unreliable. Accurate fishery-level data on employment, labor income, and expenditures in the Gulf Coast Alaska fishery and related industries are not currently available but are needed to estimate the effects of fisheries on the economy of Gulf Coast region Alaska. In this survey effort, data on these important regional economic variables will be collected and used to develop models that will provide more reliable estimates and significantly improve policy-makers' ability to assess policy effects on fishery-dependent communities in Gulf Coast region Alaska. The respondents in this survey will be the owners of the vessels landing fish at ports in Gulf Coast region Alaska.

Affected Public: Business or other for-profit.

Frequency: One time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 4, 2007.
Gwellnar Banks,
Management Analyst, Office of the Chief Information Officer.

[FR Doc. E7-11075 Filed 6-7-07; 8:45 am]

BILLING CODE 3510-22-P